DEPARTMENT OF COMMERCE

Census Bureau

Proposed Information Collection; Comment Request; 2012 Survey of Income and Program Participation Event History Calendar (SIPP-EHC) Instrument—Computer Audio Recorded Interviewing (CARI) Field Test

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before September 6, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Patrick J. Benton, Census Bureau, Room HQ-6H045, Washington, DC 20233-8400, (301) 763-4618.

SUPPLEMENTARY INFORMATION:

I. Abstract

The Census Bureau plans to conduct a CARI technology field test using the 2012 SIPP-EHC platform from March to May of 2012. The SIPP-EHC is an experimental household-based survey designed as a continuous series of national panels molded around an annual interview structured with an event history calendar and collecting detailed monthly data for a central “core” of labor force and income questions. CARI is a data collection method that captures audio along with response data during computer-assisted personal and telephone interviews (CAPI & CATI). A portion of each interview is recorded unobtrusively, with the respondent's consent, and the sound file and screen images are returned with the response data to a central location for coding.

By reviewing the recorded portions of the interview, quality assurance analysts can evaluate the likelihood that the exchange between the field representative and respondent is authentic and follows critical survey protocol as defined by the sponsor and based on best practices. The 2012 SIPP-EHC CARI test instrument will utilize the CARI Interactive Data Access System (CARI System), an innovative, integrated, multifaceted monitoring system that features a configurable Web-based interface for behavior coding, quality assurance and coaching. This system assists in coding interviews for measuring question and interviewer performance and the interaction between interviewers and respondents.

The 2012 SIPP-EHC CARI Field Test will visit survey respondents never before interviewed in SIPP. The 2012 SIPP-EHC CARI test will interview respondents using the previous calendar year, 2011, as the reference period. The content of the 2012 SIPP-EHC CARI test will match that of the 2012 SIPP-EHC test conducted as a wave 2 reinterview from January to March of 2012 with the addition of the recording consent question. In addition to the activation of the recording capabilities of the 2012 SIPP-EHC instrument, the 2012 SIPP-EHC CARI test adds the consent question to the questionnaire which will record the respondent's permission to audio record responses. Additionally, approximately 20 specific questions are programmed to be recorded during each person's interview. Based on sponsor requirements related to interviewer critical performance behaviors, the CARI technology would be used in addition to other measures of interviewer performance.

This is the second CARI field test conducted by the Census Bureau. The first CARI field test was used to conduct behavior-coding for the 2010 American Community Survey Content Test in early 2011. The Census Bureau is conducting this test to determine if the deployment of CARI will have any significant impact on response rates and item level responses. The primary focus will be to examine the impact that recording has on the quality of data. Approximately 1,300 addresses will be selected for the 2012 SIPP-EHC CARI Field Test, yielding about 900 interviewed households. We estimate that each household contains 2.1 people aged 15 and above, yielding approximately 1,890 person-level interviews in this field test. Interviews take 60 minutes on average. The total annual burden hours for 2012 SIPP-EHC CARI Field Test interviews will be 1,890 hours in FY 2012.

II. Method of Collection

The 2012 SIPP-EHC CARI Field Test instrument will reference calendar year 2011. The interview is conducted in person with all household members 15 years old or over using regular proxy-respondent rules. The 2012 SIPP-EHC CARI test will record the respondent's consent to audio record their responses, and will record approximately 20 predetermined questions during each person's interview.

III. Data

OMB Control Number: none.

Form Number: SIPP/CAPI Automated Instrument.

Type of Review: Regular.

Affected Public: Individuals or households.

Estimated Number of Respondents: 1,890 people.

Estimated Time per Response: 60 minutes per person on average.

Estimated Total Annual Burden Hours: 1,890.

Estimated Total Annual Cost: The only cost to respondents is their time.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 30, 2011.
Glenna Mickelson,
Management Analyst, Office of the Chief Information Officer.

[FR Doc. 2011-16850 Filed 7-5-11; 8:45 am]

BILLING CODE 3510-07-P